DEPARTMENT OF LABOR

Employment and Training Administration

Job Corps: Final Finding of No Significant Impact (FONSI) for the Proposed Job Corps Center in Carville, LA

AGENCY: Employment and Training Administration, Labor.

ACTION: Final Finding of No Significant Impact (FONSI) for the proposed Job Corps Center to be located at the former Gillis W. Long Hansen's Disease Center, 5445 Point Clair Road, Carville, Iberville Parish, Louisiana.

SUMMARY: Pursuant to the Council on Environmental Quality Regulations (40 CFR part 1500-08) implementing procedural provisions of the National Environmental Policy Act (NEPA), the Department of Labor, Employment and Training Administration, Office of Job Corps gives final notice of the proposed construction of a new Job Corps Center at the former Gillis W. Long Hansen's Disease Center, 5445 Point Clair Road, Carville, Iberville Parish, Louisiana, and that this construction will not have a significant adverse impact on the environment. In accordance with 29 CFR 11.11(d) and 40 CFR 1501.4(e)(2), a preliminary FONSI for the new Job Corps Center was published in the March 27, 2000 Federal Register (65 FR 16224-16226). No comments were received regarding the preliminary FONSI.

ETA has reviewed the conclusion of the environmental assessment (EA), and agrees with the finding of no significant impact. This notice serves as the Final Finding of No Significant Impact for the new Job Corps Center at the former Gillis W. Long Hansen's Disease Center, 5445 Point Clair Road, Carville, Iberville Parish, Louisiana. The preliminary FONSI and the EA are adopted in final with no change.

EFFECTIVE DATE: May 17, 2000.

FOR FURTHER INFORMATION CONTACT: Eric Luetkenhaus, Employment and Training Administration, Department of Labor, 200 Constitution Avenue NW, Room N-4659, Washington, DC, 20210; (202) 219-5468 ext 118 (this is not a toll-free number).

Dated at Washington, DC, this 9th day of May 2000.
Richard C. Trigg,
Director of Job Corps.

[FR Doc. 00-12399 Filed 5-16-00; 8:45 am]

BILLING CODE 4510-30-P